DEPARTMENT OF EDUCATION

Final Waiver and Extension of the Project Period for the Literacy Information and Communication System Regional Professional Development Centers

[Catalog of Federal Domestic Assistance (CFDA) Number: 84.191B.]

AGENCY: Career, Technical, and Adult Education, Department of Education.

ACTION: Final Waiver and Extension.

SUMMARY: For the 36-month grant projects funded in fiscal year (FY) 2011, using FY 2010 funds, under the Literacy Information and Communication System (LINCS) Regional Professional Development Centers (RPDC) program, the Secretary hereby waives the restriction against project period extensions involving the obligation of additional Federal funds, and extends the project period of the four LINCS RPDC grants for an additional 12 months. This will enable the four current LINCS RPDC grantees that received awards under the FY 2011 competition to seek a continuation award for one additional year through FY 2015 with FY 2014 funds; and we will not announce a new LINCS RPDC competition in FY 2014.

DATES: This final waiver and extension of the project period is effective June 2, 2014.

FOR FURTHER INFORMATION CONTACT: Patricia Bennett, U.S. Department of Education, 400 Maryland Ave. SW., Room 11013, Potomac Center Plaza, Washington, DC 20202. Telephone: (202) 245-7758 or by email at: patricia.bennett@ed.gov.

If you use a telecommunications device for the deaf (TDD) or a text telephone (TTY), call the Federal Relay Service (FRS), toll free, at 1-800-877-8339.

SUPPLEMENTARY INFORMATION: On March 12, 2014, we published in the Federal Register (79 FR 14017) (March 2014 proposed waiver) a proposed waiver of 34 CFR 75.261(a) and (c)(2), which restricts project period extensions involving the obligation of additional Federal funds, as it applies to the LINCS RPDC. The Secretary also proposed to extend the project period of LINCS RPDC grants for an additional 12 months to enable the four current LINCS RPDC grantees that received awards under the FY 2011 competition to seek a continuation award for one additional year through FY 2015 with FY 2014 funds.

Public Comment: In the March 2014 proposed waiver, the Secretary invited comments about the potential effect that this waiver and extension of the project period would have on LINCS RPDC and on applicants that may be eligible to apply for grant awards under any new LINCS RPDC notice inviting applications, should there be one. We received five comments in response, one of which did not address the proposed waiver and extension. Generally, we do not address comments that raise concerns not related to the proposed waiver and extension.

Analysis of Comments and Changes:

Comment: The four commenters who addressed the proposed waiver and extension: supported it, discussed the benefits and accomplishments of current LINCS RPDC projects, and stated that an extension of the current project period would allow grantees to continue their work and expand on their accomplishments.

Response: We agree with the four commenters that extending the current LINCS RPDC grant period will allow current LINCS RPDC grantees to request continuation awards with which they could continue to work toward accomplishing the goals and objectives stated in their 2011 LINCS RPDC grant applications.

Change: None.

Background

In FY 2011, using FY 2010 funds, we funded four LINCS RPDC grants, based on the requirements established in the notice for applications for new awards for LINCS RPDCs, published in the Federal Register on June 30, 2011 (76 FR 38374) (June 2011 notice), as authorized under title II of the Workforce Investment Act of 1998 (WIA), the Adult Education and Family Literacy Act (AEFLA) (20 U.S.C. 9253(2)(H)). Each RPDC serves one of the following four regions:

(1) Region 1—Connecticut, Delaware, District of Columbia, Maine, Maryland, Massachusetts, New Hampshire, New Jersey, New York, Pennsylvania, Puerto Rico, Rhode Island, Vermont, and the Virgin Islands.

(2) Region 2—Alabama, Arkansas, Florida, Georgia, Kentucky, Louisiana, Mississippi, North Carolina, Oklahoma, South Carolina, Tennessee, Texas, Virginia, and West Virginia.

(3) Region 3—Illinois, Indiana, Iowa, Kansas, Michigan, Minnesota, Missouri, Nebraska, North Dakota, Ohio, South Dakota, and Wisconsin.

(4) Region 4—Alaska, Arizona, California, Colorado, Hawaii, Idaho, Montana, Nevada, New Mexico, Oregon, Utah, Washington, Wyoming, Guam, American Samoa, the Commonwealth of the Northern Mariana Islands, and the Republic of Palau.

Through the LINCS RPDC grants, we support evidence-based virtual or in-person adult education professional development (AEPD) activities to assist educators who provide adult education services ¹ or adult education instruction ² to adult learners (adult educators).

¹ Adult education services (e.g., career counseling, transportation counseling, education counseling) are provided to adult learners by educators who may include staff of eligible providers identified in section 203(5) of the AEFLA, as well as State staff responsible for the implementation of adult education programs.

² Adult education instruction (e.g., instruction in basic literacy, mathematics, and English language skills) is provided to adult learners by educators who may include adult education teachers and other instructional personnel of eligible providers identified in section 203(5) of the AEFLA.

In addition, the LINCS RPDCs support each eligible agency responsible for administering or supervising policy for adult education and literacy programs under section 203(4) of the AEFLA ³ (eligible agency), and adult education and related organizations within each State ⁴ and outlying area ⁵ by—

(1) Disseminating information on the materials and the AEPD in the LINCS Resource Collection ⁶ to each eligible agency in the region that the grantee serves and to adult education and related organizations within each State and outlying area in that region;

³ Section 203(4) of the AEFLA defines the term “eligible agency” as the sole entity or agency in a State or an outlying area responsible for administering or supervising policy for adult education and literacy in the State or outlying area, respectively, consistent with the law of the State or outlying area, respectively.

⁴ See section 203(17) of the AEFLA.

⁵ See section 203(14) of the AEFLA.

⁶ For more information on the LINCS Resource Collection, see http://lincs.ed.gov/collections.

(2) Collaborating closely with eligible agencies to organize and deliver virtual or in-person AEPD; and

(3) Fostering the use of new technologies, including virtual moderated communities of practice ⁷ (CoP), for adult educators.

⁷ Communities of practice are groups of people who share a concern or a passion for something they do and learn how to do it better as they interact regularly (see http://www.ewenger.com/theory/).

The LINCS RPDCs provide substantial and direct operational involvement in the management of project implementation and on plans for AEPD and project activities, including by facilitating the collaboration between grantees and the Department's LINCS Resource Collection contractor and the LINCS technical services contractor.

For these four LINCS RPDC projects, the Secretary waives the requirement of 34 CFR 75.261(a) and (c)(2), the regulation that generally prohibits project period extensions involving the obligation of additional Federal funds, in order to extend the current LINCS RPDC project period for an additional 12 months.

The Secretary's waiver of 34 CFR 75.261(a) and (c)(2) and extension of the current LINCS RPDC project period means that: (1) Current LINCS RPDC grantees will be authorized to request in FY 2014 and receive LINCS RPDC continuation awards for one additional year through FY 2015; (2) we will not announce a new LINCS RPDC competition to make new awards in FY 2014; (3) the June 2011 notice will continue to govern current projects during the extension year; and (4) the four currently-approved applications selected based on the June 2011 notice will govern LINCS RPDC continuation activities.

The June 2011 notice: (1) Established a project period of up to 36 months and reiterated that funding for multi-year awards would be dependent on a grantee meeting the requirements of 34 CFR 75.253 (continuation of a multi-year project after the first budget period); (2) explained the requirements of the program; (3) described the evaluation and reporting requirements; and (4) established the Government Performance and Results Act (GPRA) performance indicators for the LINCS RPDCs.

With this final waiver and extension of the project period, the current four LINCS RPDC grantees may request continuation awards for one additional project year, through FY 2015, with FY 2014 funds Congress has appropriated under the current authority in section 243(2)(H) of the AEFLA. Any requests for continuation awards will be considered under the current authority and subject to the requirements of 34 CFR 75.253, including the requirement that each grantee demonstrate that it is making substantial progress performing its LINCS RPDC grant activities based on the requirements in the June 2011 notice.

We will make decisions regarding continuation awards based on information provided in grantee requests for continuation awards, including information provided in program narratives, budgets and budget narratives, and performance reports. Any activities to be carried out during the continuation year must be consistent with, or be a logical extension of, the scope, goals, and objectives of, each grantee's application as approved in the 2011 LINCS RPDC competition.

Regulatory Flexibility Act Certification

The Secretary certifies that the waiver and extension and the activities required to support an additional year of funding will not have a significant economic impact on a substantial number of small entities.

The small entities that will be affected by this waiver and extension are the four currently-funded LINCS RPDC grantees and any potential applicants for LINCS RPDC grants in FY 2014.

The Secretary further certifies that the waiver and extension will not have a significant economic impact on these LINCS RPDC entities because the waiver and extension impose minimal compliance costs to extend projects already in existence, and the activities required to support the additional year of funding will not impose additional regulatory burdens or require unnecessary Federal supervision. Furthermore, the costs of carrying out these activities could be paid for with program funds.

Paperwork Reduction Act of 1995

This notice of waiver and extension does not contain any information collection requirements.

Intergovernmental Review

The LINCS RPDC is subject to Executive Order 12372 and the regulations in 34 CFR part 79.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at www.federalregister.gov. Specifically, through the advanced search feature at this site, you can limit your search to documents published by the Department.

Program Authority: 20 U.S.C. 9253(2)(H).

Dated: May 28, 2014.
Johan Uvin,
Deputy Assistant Secretary for Policy and Strategic Initiatives, Delegated Authority To Perform the Functions and Duties of the Assistant Secretary for Career, Technical, and Adult Education.

[FR Doc. 2014-12707 Filed 5-30-14; 8:45 am]

BILLING CODE 4000-01-P